GENERAL SERVICES ADMINISTRATION

OMB Control No. 3090-0118

Federal Management Regulation and Federal Property Management Regulations; Information Collection; Standard Form 94, Statement of Witness

AGENCY: Federal Vehicle Policy Division, GSA.

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding Standard Form (SF) 94, Statement of Witness.

Public comments are particularly invited on: Whether this collection of information is necessary and whether it will have practical utility; whether our estimate of the public burden of this collection of information is accurate, and based on valid assumptions and methodology; ways to enhance the quality, utility, and clarity of the information to be collected.

DATES: Submit comments on or before: November 8, 2004.

FOR FURTHER INFORMATION CONTACT: Michael Moses, Team Leader, Federal Vehicle Policy Division, at (202) 501-2507 or via e-mail to mike.moses@gsa.gov.

ADDRESSES: Submit comments regarding this burden estimate or any other aspect of this collection of information, including suggestions for reducing this burden to the Regulatory Secretariat (V), General Services Administration, Room 4035, 1800 F Street, NW., Washington, DC 20405. Please cite OMB Control No. 3090-0118, Standard Form 94, Statement of Witness, in all correspondence.

SUPPLEMENTARY INFORMATION:

A. Purpose

SF 94 is used by all Federal agencies to report accident information involving U.S. Government motor vehicles. The SF 94 is an essential part of the investigation of motor vehicle accidents, especially those involving the public with a potential for claims against the United States. It is a vital piece of information in lawsuits and provides the Assistant United States Attorneys with a written statement to refresh recollection of accidents, as necessary. The SF 94 is usually completed at the time of an accident involving a motor vehicle owned or leased by the Government. Individuals, other than the vehicle operator, who witness the accident, complete the form.Use of the SF 94 is prescribed in FMR 102-34.300(b) and Federal Property Management Regulations 101-39.40(b).

B. Annual Reporting Burden

Respondents: 874

Responses Per Respondent: 1

Hours Per Response: 20 minutes

Total Burden Hours: 291

OBTAINING COPIES OF PROPOSALS: Requesters may obtain a copy of the information collection documents from the General Services Administration, Regulatory Secretariat (V), 1800 F Street, NW., Room 4035, Washington, DC 20405, telephone (202) 208-7312. Please cite OMB Control No. 3090-0118, Standard Form 94, Statement of Witness, in all correspondence.

Dated: August 31, 2004
Michael W. Carleton,
Chief Information Officer.

[FR Doc. 04-20378 Filed 9-8-04; 8:45 am]

BILLING CODE 6820-14-S